FEDERAL COMMUNICATIONS COMMISSION

[DA 02-918]

Public Safety National Coordination Committee

AGENCY: Federal Communications Commission.

ACTION: Notice.

SUMMARY: This document advises interested persons of a meeting of the Public Safety National Coordination Committee (“NCC”), which will be held in Washington, DC. The Federal Advisory Committee Act, Public Law 92-463, as amended, requires public notice of all meetings of the NCC. This notice advises interested persons of the sixteenth meeting of the Public Safety National Coordination Committee.

DATES: May 31, 2002 at 9:30 a.m.-12:30 p.m.

ADDRESSES: Federal Communications Commission, 445 12th Street, SW., Washington, DC 20554.

FOR FURTHER INFORMATION CONTACT: Designated Federal Officer, Michael J. Wilhelm, (202) 418-0680, e-mail mwilhelm@fcc.gov. Press Contact, Meribeth McCarrick, Wireless Telecommunications Bureau, 202-418-0600, or e-mail mmccarri@fcc.gov.

SUPPLEMENTARY INFORMATION: Following is the complete text of the Public Notice: This Public Notice advises interested persons of the sixteenth meeting of the Public Safety National Coordination Committee (“NCC”), which will be held in Washington, DC The Federal Advisory Committee Act, Public Law 92-463, as amended, requires public notice of all meetings of the NCC.

Date: May 31, 2002.

Meeting Time: General Membership Meeting—9:30 a.m.-12:30 p.m.

ADDRESSES: Federal Communications Commission, 445 12th Street, SW., Washington, DC 20554.

The NCC Subcommittees will meet from 9 a.m. to 5:30 p.m. the previous day. The NCC General Membership Meeting will commence at 9:30 a.m. and continue until 12:30 p.m.

The agenda for the NCC membership meeting is as follows:

1. Introduction and Welcoming Remarks

2. Administrative Matters

3. Report from the Interoperability Subcommittee

4. Report from the Technology Subcommittee

5. Report from the Implementation Subcommittee

6. Action on Subcommittee Recommendations, including Public Safety Base Station Signal Contour Level Increase

7. Public Discussion

8. Other Business

9. Upcoming Meeting Dates and Locations

10. Closing Remarks

The FCC has established the Public Safety National Coordination Committee, pursuant to the provisions of the Federal Advisory Committee Act, to advise the Commission on a variety of issues relating to the use of the 24 MHz of spectrum in the 764-776/794-806 MHz frequency bands (collectively, the 700 MHz band) that has been allocated to public safety services. See The Development of Operational, Technical and Spectrum Requirements For Meeting Federal, State and Local Public Safety Agency Communications Requirements Through the Year 2010 and Establishment of Rules and Requirements For Priority Access Service, WT Docket No. 96-86, First Report and Order and Third Notice of Proposed Rulemaking, FCC 98-191, 14 FCC Rcd 152 (1998), 63 FR 58645 (11-2-98).

The NCC has an open membership. Previous expressions of interest in membership have been received in response to several Public Notices inviting interested persons to become members and to participate in the NCC's processes. All persons who have previously identified themselves or have been designated as a representative of an organization are deemed members and are invited to attend. All other interested parties are hereby invited to attend and to participate in the NCC processes and its meetings and to become members of the Committee. This policy will ensure balanced participation. Members of the general public may attend the meeting. To attend the sixteenth meeting of the Public Safety National Coordination Committee, please RSVP to Joy Alford of the Policy and Rules Branch of the Public Safety and Private Wireless Division, Wireless Telecommunications Bureau of the FCC by calling (202) 418-0680, by faxing (202) 418-2643, or by E-mailing at jalford@fcc.gov. Please provide your name, the organization you represent, your phone number, fax number and e-mail address. This RSVP is for the purpose of determining the number of people who will attend this sixteenth meeting.

The FCC will attempt to accommodate as many people as possible. However, admittance will be limited to the seating available. Persons requesting accommodations for hearing disabilities should contact Joy Alford immediately at (202) 418-7233 (TTY). Persons requesting accommodations for other physical disabilities should contact Joy Alford immediately at (202) 418-0694 or via e-mail at jalford@fcc.gov. The public may submit written comments to the NCC's Designated Federal Officer before the meeting.

Additional information about the NCC and NCC-related matters can be found on the NCC website located at: http://wireless.fcc.gov/publicsafety/ncc.

Federal Communications Commission
Jeanne Kowalski
Deputy Division Chief for Public Safety, Public Safety and Private Wireless Division, Wireless Telecommunications Bureau.

[FR Doc. 02-10365 Filed 4-25-02; 8:45 am]

BILLING CODE 6712-01-P